SURFACE TRANSPORTATION BOARD

[Docket No. FD 36444]

Grafton and Upton Railroad Company—Acquisition and Operation Exemption—CSX Transportation, Inc.

Grafton and Upton Railroad Company (G&U), a Class III carrier, has filed a verified notice of exemption under 49 CFR 1150.41 to acquire by easement and operate approximately 8.4 miles of rail line (known as the Milford Secondary) between milepost QVG 0 and milepost QVG 8.4 in Milford, Bellingham, and Franklin, Mass. (the Line), which is owned by CSX Transportation, Inc. (CSXT).

The verified notice states that G&U will operate and exclusively provide all common carrier freight service to shippers served by the Line pursuant to an Easement Agreement and related agreements with CSXT. According to G&U, the agreements provide for an initial term of ten years, subject to three five-year extensions if certain conditions are met.

G&U certifies that its projected annual revenues as a result of this transaction will not exceed $5 million or the threshold required to qualify as a Class III carrier. G&U also certifies that the proposed transaction does not involve a provision or agreement that may limit future interchange with a third-party connecting carrier.

The transaction may be consummated on or after October 28, 2020, the effective date of the exemption (30 days after the verified notice was filed).

If the verified notice contains false or misleading information, the exemption is void ab initio. Petitions to revoke the exemption under 49 U.S.C. 10502(d) may be filed at any time. The filing of a petition to revoke will not automatically stay the effectiveness of the exemption. Petitions for stay must be filed no later than October 21, 2020 (at least seven days before the exemption becomes effective).

All pleadings, referring to Docket No. FD 36444, must be filed with the Surface Transportation Board either via e-filing or in writing addressed to 395 E Street SW, Washington, DC 20423-0001. In addition, a copy of each pleading must be served on G&U's representative, James E. Howard, 57 Via Buena Vista, Monterey, CA 93940.

According to G&U, this action is categorically excluded from environmental review under 49 CFR 1105.6(c) and from historic preservation reporting requirements under 49 CFR 1105.8(b).

Board decisions and notices are available at www.stb.gov.

Decided: October 7, 2020.
By the Board, Allison C. Davis, Director, Office of Proceedings.
Regena Smith-Bernard,
Clearance Clerk.

[FR Doc. 2020-22654 Filed 10-13-20; 8:45 am]

BILLING CODE 4915-01-P